DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of December 19, 2011 through December 30, 2011.

In order for an affirmative determination to be made for workers of a primary firm and a certification issued regarding eligibility to apply for worker adjustment assistance, each of the group eligibility requirements of Section 222(a) of the Act must be met.

I. Under Section 222(a)(2)(A), the Following Must Be Satisfied

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) All of the Following Must Be Satisfied

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
80,405 | Schweizer Aircraft Corporation, Sikorsky Aircraft, dba Sikorsky Military Completion, Adecco, Aerotek, etc | Horseheads, NY | August 30, 2010.
80,413 | Flextronics, Flextronics International, Global Services Division, Aerotek | Louisville, KY | December 9, 2011.
80,425 | Portage Mold and Die Co | Ravenna, OH | September 8, 2010.
80,483 | American Apparel, Inc | Garden Grove, CA | September 29, 2010.
80,493 | Molded Fiber Glass Companies Texas, Class 8 Truck Roof Division | Gainesville, TX | October 4, 2010.
81,004 | Pace American Enterprises, Inc | McGregor, TX | February 13, 2010.
81,004A | Pace American Enterprises, Inc | Middlebury, IN | February 13, 2010.
81,004B | Pace American Enterprises, Inc | Fitzgerald, GA | February 13, 2010.
81,004C | Pace American Enterprises, Inc | Lebanon, OR | February 13, 2010.
81,004D | Pace American Enterprises, Inc | Hurricane, UT | February 13, 2010.
81,009 | Birds Eye Foods, LLC, Fulton, NY Plant, Pinnacle Foods Group LLC, W L Staff Svces., Inc | Fulton, NY | February 13, 2010.
81,010 | Velsicol Chemical LLC | Memphis, TN | February 13, 2010.
81,050 | Fenton Gift Shops, Inc | Williamstown, WV | February 13, 2010.
81,050A | Fenton Gift Shops, Inc | Sutton, WV | February 13, 2010.
81,087 | Burlington Basket Company | West Burlington, IA | February 13, 2010.
81,115 | The Rupp Forge Company | Cleveland, OH | February 13, 2010.
81,131 | Topsail Coast Enterprises, Inc | Surf City, NC | February 13, 2010.
81,136 | Michelin North America, Inc., BF Goodrich Tire Manufacturing Division | Opelika, AL | June 26, 2010.

The following certifications have been issued. The requirements of Section 222(a)(2)(B) (shift in production or services) of the Trade Act have been met.

TA-W No. | Subject firm | Location | Impact date
80,409 | Bosch Security Systems, Inc., Robert Bosch N.A | Lancaster, PA | February 13, 2010.
80,523 | Siemens Water Technologies, Spherion Corporation | Vineland, NJ | October 14, 2010.
81,007 | A. Schulman, On-Site Leased Workers From Manpower | Nashville, TN | February 13, 2010.
81,036 | Fair-Rite Products Corp | Flat Rock, IL | February 13, 2010.
81,036A | Fair-Rite Products Corp | Wallkill, NY | February 13, 2010.
81,037 | Emerson Power Transmission, On-Site Leased Workers from Nesco Services | Maysville, KY | February 13, 2010.
81,037A | Emerson Power Transmission, On-Site Leased Workers from Nesco Services | Maysville, KY | February 13, 2010.
81,043 | Outcomes Health Information Solutions, LLC | Albuquerque, NM | February 13, 2010.
81,052 | Mohawk Fine Paper, Beckett Mill Division, Prestige Technical Services | Hamilton, OH | February 13, 2010.
81,074 | Radia Inc., P.S., Business Services Division | Everett, WA | February 13, 2010.
81,100 | Checkpoint Caribbean, Ltd., Checkpoint Systems, Personnel Recruiting Services | Ponce, PR | February 13, 2010.
81,107 | New United Motor Manufacturing, Inc. (NUMMI), Joint Venture of General Motors Corporation & Toyota Motor Corporation | Freemont, CA | November 20, 2011.
81,110 | Meggitt Aircraft Braking Systems Corporation, Meggitt PLC | Akron, OH | February 13, 2010.
81,110A | Kelly Services, Working On-Site Meggitt Aircraft Braking Systems Corporation | Akron, OH | February 13, 2010.
81,119 | Federal-Mogul, Wiper Products Division | Michigan City, IN | January 23, 2012.
81,119A | Express Employment Working On-Site at Federal-Mogul | Michigan City, IN | February 13, 2010.
81,142 | Jeunique International, Inc | Santa Fe Springs, CA | February 13, 2010.
81,160 | Kardex Production USA, Inc., Kardex AG | Lewistown, PA | February 13, 2010.
81,163 | Smith Jones, Inc., D.B.A. Midwest Manufacturing Company | Stanberry, MO | February 13, 2011.
81,164 | BAE Systems Controls, Inc., Electronic Systems Division | Irving, TX | December 8, 2011.
81,165 | Cengage Learning, Manufacturing Buyers' Department, Adecco, Ajilon and Brooksource | Mason, OH | February 13, 2010.
81,165A | Cengage Learning, Manufacturing Buyers' Department | Belmont, CA | February 13, 2010.
81,169 | Ikano Communications, Inc. DBA DSL Extreme, Customer Service Department | Chatsworth, CA | February 13, 2010.

The following certifications have been issued. The requirements of Section 222(c) (supplier to a firm whose workers are certified eligible to apply for TAA) of the Trade Act have been met.

TA-W No. | Subject firm | Location | Impact date
81,016 | Smart Papers Holdings LLC, Plainfield Paper Holdings LLC | Hamilton, OH | February 13, 2010.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
80,529 | Wheatland Tube Company | Sharon, PA.

The investigation revealed that the criteria under paragraphs (a)(2)(A)(i) (decline in sales or production, or both) and (a)(2)(B) (shift in production or services to a foreign country) of section 222 have not been met.

TA-W No. | Subject firm | Location | Impact date
80,421 | Geiger International, A Subsidiary of Herman Miller | Lake Mills, WI.

The investigation revealed that the criteria under paragraphs (a)(2)(A) (increased imports) and (a)(2)(B) (shift in production or services to a foreign country) of section 222 have not been met.

TA-W No. | Subject firm | Location | Impact date
80,414 | Equistar Chemicals, LP, A Subsidiary of Lyondell Chemical Co | Cincinnati, OH.
80,446 | GoldToeMoretz, LLC, A Subsidiary of GTB Holding LLC | Newton, NC.
80,493A | Molded Fiber Glass Companies Texas, Wind Turbine Blade Division | Gainesville, TX.
80,512 | Pilgrim's Pride Corporation | Dallas, TX

I hereby certify that the aforementioned determinations were issued during the period of December 19, 2011 through December 30, 2011. These determinations are available on the Department's Web site at tradeact/taa/taa search form.cfm under the searchable listing of determinations or by calling the Office of Trade Adjustment Assistance toll-free at (888) 365-6822.

Dated: January 5, 2012.
Michael W. Jaffe,
Certifying Officer, Office of Trade Adjustment Assistance.

[FR Doc. 2012-436 Filed 1-11-12; 8:45 am]

BILLING CODE P